COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Information and Regulatory Affairs (“OIRA”) of the Office of Management and Budget (“OMB”) for review and comment. The ICR describes the nature of the information collection and its expected costs and burden.

DATES: Comments must be submitted on or before March 30, 2026.

ADDRESSES: Written comments and recommendations for the proposed information collection should be submitted within 30 days of this notice's publication to OIRA, at https://www.reginfo.gov/public/do/PRAMain. Please find this particular information collection by selecting “Currently under 30-day Review—Open for Public Comments” or by using the website's search function. Comments can be entered electronically by clicking on the “comment” button next to the information collection on the “OIRA Information Collections Under Review” page, or the “View ICR—Agency Submission” page. A copy of the supporting statement for the collection of information discussed herein may be obtained by visiting https://www.reginfo.gov/public/do/PRAMain.

In addition to the submission of comments to https://Reginfo.gov as indicated above, a copy of all comments submitted to OIRA may also be submitted to the Commodity Futures Trading Commission (the “Commission” or “CFTC”) by clicking on the “Submit Comment” box next to the descriptive entry for OMB Control No. 3038-0055, at https://comments.cftc.gov/FederalRegister/PublicInfo.aspx.

Or by any of the following methods:

• Mail: Christopher Kirkpatrick, Secretary of the Commission, Commodity Futures Trading Commission, Three Lafayette Centre, 1155 21st Street NW, Washington, DC 20581.

• Hand Delivery/Courier: Same as Mail above.

All comments must be submitted in English, or if not, accompanied by an English translation. Comments will be posted as received to https://www.cftc.gov. Comments submitted to the Commission should include only information that you wish to make available publicly. If you wish the Commission to consider information that you believe is exempt from disclosure under the Freedom of Information Act (“FOIA”), a petition for confidential treatment of the exempt information may be submitted according to the procedures established in § 145.9 of the Commission's regulations.¹ The Commission reserves the right, but shall have no obligation, to review, pre-screen, filter, redact, refuse or remove any or all of your submission from https://www.cftc.gov that it may deem to be inappropriate for publication, such as obscene language. All submissions that have been redacted or removed that contain comments on the merits of the ICR will be retained in the public comment file and will be considered as required under the Administrative Procedure Act and other applicable laws, and may be accessible under FOIA.

¹ 17 CFR 145.9.

FOR FURTHER INFORMATION CONTACT: Dina Moussa, Special Counsel, (202) 418-5696 or dmoussa@cftc.gov; or Catherine Brescia, Attorney Advisor, (202) 418-6236 or cbrescia@cftc.gov, Market Participants Division, Commodity Futures Trading Commission, Three Lafayette Centre, 1155 21st Street NW, Washington, DC 20581, and refer to OMB Control No. 3038-0055.

SUPPLEMENTARY INFORMATION:

Title: Privacy of Consumer Financial Information (OMB Control No. 3038-0055). This is a request for an extension of a currently approved information collection.

Abstract: Section 124 of the Commodity Futures Modernization Act of 2000 ² amended the Commodity Exchange Act (the “Act”) and added a new Section 5g ³ to the Act to (i) provide that futures commission merchants, commodity trading advisors, commodity pool operators, and introducing brokers that are subject to CFTC jurisdiction with respect to any financial activity shall be treated as a financial institution for purposes of Title V, Subtitle A of the Gramm-Leach-Bliley Act (“GLB Act”), (ii) treat the Commission as a Federal functional regulator for purposes of applying the provisions of the GLB Act, and (iii) direct the Commission to prescribe regulations under Title V of the GLB Act.

² Section 124, Appendix E of Public Law 106-554, 114 Stat. 2763 (2000).

³ 7 U.S.C. 7b-2.

The Commission adopted regulations for these entities under Part 160 and later extended them to retail foreign exchange dealers, swap dealers, and major swap participants.⁴ Part 160 requires those subject to the regulations, among other things, to provide privacy and opt out notices to customers and consumers, and to adopt appropriate policies and procedures to safeguard customer records and information. In April 2019, the Commission adopted amendments to its regulations to provide an exception to its annual privacy notice requirement under certain conditions.⁵

⁴ 17 CFR part 160. See Privacy of Customer Information, 66 FR 21235 (Apr. 27, 2001); Regulation of Off-Exchange Retail Foreign Exchange Transactions and Intermediaries, 75 FR 55409 (Sep. 10, 2010); and Privacy of Consumer Financial Information; Conforming Amendments Under Dodd-Frank Act, 76 FR 43874 (Jul. 22, 2011).

⁵ Privacy of Consumer Financial Information—Amendment to Conform Regulations to the Fixing America's Surface Transportation Act, 84 FR 17341 (Apr. 25, 2019).

An agency may not conduct or sponsor, and a person is not required to respond to, a collection of information unless it displays a currently valid OMB control number. On December 15, 2025, the Commission published in the Federal Register notice of the proposed extension of this information collection and provided 60 days for public comment on the proposed extension, 90 FR 57962 (“60-Day Notice”). The Commission received no relevant comments on the 60-Day Notice.

Burden Statement: The respondent burden for this collection is estimated to be as follows:

Estimated Number of Respondents: 3,399.

Estimated Number of Annual Responses per Respondent: 95.

Estimated Total Number of Annual Responses per Respondent: 322,905.

Estimated Time per Response: 2 minutes.

Estimated Total Annual Burden Hours: 10,764.

Frequency of Collection: Annual.

There are no capital costs or operating and maintenance costs associated with this collection.

Authority: 44 U.S.C. 3501 et seq.

Dated: February 24, 2026.
Robert Sidman,
Deputy Secretary of the Commission.

[FR Doc. 2026-03890 Filed 2-25-26; 8:45 am]

BILLING CODE 6351-01-P